DEPARTMENT OF STATE

[Public Notice: 10962]

Report to Congress Pursuant to Section 1245(e) of the National Defense Authorization Act for Fiscal Year 2013 (FY13 NDAA)

ACTION: Notice of report.

FOR FURTHER INFORMATION CONTACT: On general issues: Rachael Jagielski, Office of Counterproliferation Initiatives, Department of State, Tel: (202) 647-5193.

Report (October 29, 2019)

Section 1245(e) of the FY13 NDAA, known as the Iran Freedom and Counter-Proliferation Act of 2012 (IFCA), as delegated, requires that the Secretary of State, in consultation with the Secretary of the Treasury, determine (1) whether Iran is (A) using any of the materials described in subsection (d) of Section 1245 of IFCA as a medium for barter, swap, or any other exchange or transaction, or (B) listing any of such materials as assets of the Government of Iran for purposes of the national balance sheet of Iran; (2) which sectors of the economy of Iran are controlled directly or indirectly by Iran's Islamic Revolutionary Guard Corps (IRGC); and (3) which of the materials described in subsection (d) are used in connection with the nuclear, military, or ballistic missile programs of Iran. Materials described in subsection (d) of Section 1245 are graphite, raw or semi-finished metals such as aluminum and steel, coal, and software for integrating industrial processes.

This report under Section 1245(e) of IFCA covers the period from January 1, 2017 to December 31, 2018.

Following a review of the available information, and in consultation with the Department of the Treasury, the Secretary of State has determined that Iran is not using the materials described in Section 1245(d) as a medium for barter, swap, or any other exchange or transaction; nor is Iran listing any such materials as assets of the Government of Iran for purposes of the national balance sheet of Iran.

Following a review of the available information, and in consultation with the Department of the Treasury, the Secretary of State has determined that the construction sector of Iran is controlled directly or indirectly by the IRGC.

As previously determined, of the 31 materials expected to be included within the scope of Section 1245(d) of IFCA, certain types of the following materials are used in connection with the nuclear, military, or ballistic missile programs of Iran: Aluminum, beryllium, boron, cobalt, copper, copper-infiltrated tungsten, copper-beryllium, graphite, hastelloy, Inconel, magnesium, molybdenum, nickel, niobium, silver-infiltrated tungsten, steels (including, but not limited to, maraging steels and stainless steels), titanium diboride, tungsten, tungsten carbide, and zirconium.

Additionally, a report under Section 1245(e) of IFCA for an earlier time period included a determination that identified four certain types of those materials that are used in connection with the nuclear, military, or ballistic missile programs of Iran. Following a review of the available information, and in consultation with the Department of the Treasury, the Secretary of State has not identified any additional certain types of those materials that are used in connection with the nuclear, military, or ballistic missile programs of Iran.

Dated: October 29, 2019.
Michael R. Pompeo,
Secretary of State.

[FR Doc. 2019-26070 Filed 12-2-19; 8:45 am]

BILLING CODE 4710-27-P